DEPARTMENT OF ENERGY

Federal Energy Regulatory Commission

Combined Notice of Filings #1

Take notice that the Commission received the following exempt wholesale generator filings:

Docket Numbers: EG16-153-000.

Applicants: Summit Farms Solar, LLC.

Description: Self-Certification of Exempt Wholesale Generator Status of Summit Farms Solar, LLC.

Filed Date: 9/16/16.

Accession Number: 20160916-5170.

Comments Due: 5 p.m. ET 10/7/16.

Take notice that the Commission received the following electric rate filings:

Docket Numbers: ER10-2237-007; ER10-2238-008; ER10-2239-008; ER12-896-004.

Applicants: Indigo Generation LLC, Larkspur Energy LLC, Wildflower Energy LP, Mariposa Energy, LLC.

Description: Supplement to June 2, 2016 Triennial Market Power Analysis for the Southwest Region of the DGC Southwest Sellers.

Filed Date: 9/1/16.

Accession Number: 20160901-5139.

Comments Due: 5 p.m. ET 9/22/16.

Docket Numbers: ER14-1656-009.

Applicants: CSOLAR IV West, LLC.

Description: Supplement to Updated Market Power Analysis of CSOLAR IV WEST, LLC.

Filed Date: 9/14/16.

Accession Number: 20160914-5073.

Comments Due: 5 p.m. ET 10/5/16.

Docket Numbers: ER14-2244-001.

Applicants: La Paloma Generating Company, LLC.

Description: Supplement to June 30, 2016 La Paloma Generating Company, LLC Triennial Updated Market Power Analysis for the Southwest Region.

Filed Date: 8/31/16.

Accession Number: 20160831-5399.

Comments Due: 5 p.m. ET 9/21/16.

Docket Numbers: ER16-2602-000.

Applicants: 4C Acquisition, LLC.

Description: Baseline eTariff Filing: Application for Market-Based Rate Authority of 4CA to be effective 10/17/2016.

Filed Date: 9/16/16.

Accession Number: 20160916-5145.

Comments Due: 5 p.m. ET 10/7/16.

Docket Numbers: ER16-2603-000.

Applicants: Southern California Edison Company.

Description: § 205(d) Rate Filing: Amend SGIA for Antelope Power Plant Project to be effective 11/17/2016.

Filed Date: 9/16/16.

Accession Number: 20160916-5169.

Comments Due: 5 p.m. ET 10/7/16.

Docket Numbers: ER16-2604-000.

Applicants: Summit Farms Solar, LLC.

Description: Initial rate filing: Rate Schedule No. 1—Shared Facilities Agreement to be effective 11/1/2016.

Filed Date: 9/16/16.

Accession Number: 20160916-5174.

Comments Due: 5 p.m. ET 10/7/16.

The filings are accessible in the Commission's eLibrary system by clicking on the links or querying the docket number.

Any person desiring to intervene or protest in any of the above proceedings must file in accordance with Rules 211 and 214 of the Commission's Regulations (18 CFR 385.211 and § 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 19, 2016.
Nathaniel J. Davis, Sr.,
Deputy Secretary.

[FR Doc. 2016-23020 Filed 9-23-16; 8:45 am]

BILLING CODE 6717-01-P